DEPARTMENT OF ENERGY

National Nuclear Security Administration, Office of Los Alamos Site Operations; Notice of Floodplain Involvement for the Construction and Operation of a 12-inch Natural Gas Pipeline in Los Alamos Canyon at Los Alamos National Laboratory, Los Alamos, NM

AGENCY: National Nuclear Security Administration, Office of Los Alamos Site Operations, Department of Energy.

ACTION: Notice of floodplain involvement.

SUMMARY: The National Nuclear Security Administration (NNSA), Office of Los Alamos Site Operations at the Department of Energy (DOE), plans to grant an easement to the Public Service Company of New Mexico (PNM) to construct, operate, and maintain a 15,000 foot, 12-inch diameter natural gas transmission line on DOE-owned land at Los Alamos National Laboratory (LANL). The new gas line would begin at an existing valve station at the bottom of Los Alamos Canyon, cross under the streambed to avoid encroaching on wetlands, and continue upstream for about two miles. The gas line would then cross back under the stream to connect with an existing gas line. The proposed easement would be 50 feet wide and would parallel an existing electric power line. Portions of the gas line will be constructed in the 100-year floodplain of Los Alamos Canyon, as identified in the location map.

In accordance with 10 CFR part 1022, NNSA has prepared a floodplain/wetland assessment and will perform this proposed action in a manner so as to avoid or minimize potential harm to or within the affected floodplain.

DATES: Comments are due to the address below no later than July 12, 2002.

ADDRESSES: Written comments should be addressed to: Elizabeth Withers, Department of Energy, National Nuclear Security Administration, Office of Los Alamos Site Operations, 528 35th Street, Los Alamos, NM 87544, or submit them to the Mail Room at the above address between the hours of 8 a.m. and 4:30 p.m., Monday through Friday. Written comments may also be sent electronically to: ewithers@doeal.gov or by facsimile to (505) 667-9998.

FOR FURTHER INFORMATION CONTACT: Milton West, Department of Energy, National Nuclear Security Administration, Albuquerque Operations Office, P.O. Box 5400, Building 388, Albuquerque, New Mexico 87185-5400. Telephone (505) 845-4452, facsimile (505) 284-7191.

For further information on General DOE Floodplain Environmental Review Requirements, contact: Carol M. Borgstrom, Director, Office of NEPA Policy and Compliance, EH-42, Department of Energy, 1000 Independence Avenue, SW., Washington DC 20585-0119. Telephone (202) 586-4600 or (800) 472-2756, facsimile (202) 586-7031.

SUPPLEMENTARY INFORMATION: In August 2001, NNSA considered a proposal for constructing a new 12-inch natural gas pipeline to provide additional natural gas capacity to Los Alamos County and LANL. A 50-foot right-of-way would be cleared along the length of the easement to facilitate construction and operation of the gas line. The proposed project would be located at the bottom of Los Alamos Canyon parallel to an intermittent stream and along an existing electric power line. Stream crossings would be accomplished by tunneling under the streambed to avoid wetland areas. Portions of the gas line construction would occur in the 100-year floodplain. The floodplain/wetlands assessment will discuss engineering best management practices that will be implemented to control erosion and sedimentation from the construction activities. Construction of the gas pipeline would begin in the spring of 2003 and be completed in approximately six months.

In accordance with DOE regulations for compliance with floodplain and wetlands environmental review requirements (10 CFR part 1022), NNSA has prepared a floodplain/wetland assessment for this action, which is available by contacting Elizabeth Withers at the previously identified addresses, phone and facsimile numbers. The floodplain/wetland assessment is available for review at the DOE Reading Room at the Los Alamos Outreach Center, 1619 Central Avenue, Los Alamos, NM 87544; and the DOE Reading Room at the Zimmerman Library, University of New Mexico, Albuquerque, NM 87131. The NNSA will publish a floodplain statement of findings for this project in the Federal Register no sooner than July 12, 2002.

Issued in Los Alamos, NM, on June 20, 2002.
E. Dennis Martinez,
Acting Director, U. S. Department of Energy, National Nuclear Security Administration, Office of Los Alamos Site Operations.

BILLING CODE 6450-01-P

[FR Doc. 02-16241 Filed 6-26-02; 8:45 am]

BILLING CODE 6450-01-C